SMALL BUSINESS ADMINISTRATION

[Disaster Declaration # 13674 and # 13675]

Missouri Disaster Number MO-00066

AGENCY: U.S. Small Business Administration.

ACTION: Amendment 1.

SUMMARY: This is an amendment of the Presidential declaration of a major disaster for Public Assistance Only for the State of Missouri (FEMA-4130-DR), dated 07/18/2013.

Incident: Severe Storms, Straight-line Winds, Tornadoes, and Flooding.

Incident Period: 05/29/2013 through 06/10/2013.

Effective Date: 08/05/2013.

Physical Loan Application Deadline Date: 09/16/2013.

Economic Injury (EIDL) Loan Application Deadline Date: 04/18/2014.

Addresses: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of MISSOURI, dated 07/18/2013, is hereby amended to include the following areas as adversely affected by the disaster.

Primary Counties: Scotland.

All other information in the original declaration remains unchanged.

(Catalog of Federal Domestic Assistance Numbers 59002 and 59008)

James E. Rivera,
Associate Administrator for Disaster Assistance.

[FR Doc. 2013-19678 Filed 8-13-13; 8:45 am]

BILLING CODE 8025-01-P